DEPARTMENT OF ENERGY

Federal Energy Regulatory Commission

Notice of Effectiveness of Exempt Wholesale Generator Status

| Docket Nos.
Playa Solar 1, LLC | EG17-71-000
Playa Solar 2, LLC | EG17-72-000
Midway Solar, LLC | EG17-73-000
Radford's Run Wind Farm, LLC | EG17-74-000
Bruenning's Breeze Wind Farm, LLC | EG17-75-000
Techren Solar, LLC | EG17-76-000
Sweetwater Solar, LLC | EG17-77-000
83WI 8me, LLC | EG17-78-000
Gulf Coast Solar Center I, LLC | EG17-79-000
Gulf Coast Solar Center II, LLC | EG17-80-000
Gulf Coast Solar Center III, LLC | EG17-81-000
PPA Grand Johanna LLC | EG17-82-000
Willow Springs Windfarm, LLC | EG17-83-000
Midlothian Energy, LLC | EG17-84-000
Hays Energy, LLC | EG17-85-000
Coleto Creek Power, LP | EG17-86-000
Callahan Wind Divide, LLC | EG17-87-000
Horse Hollow Wind I, LLC | EG17-88-000
Red Pine Wind Project, LLC | EG17-89-000

Take notice that during the month of May 2017, the status of the above-captioned entities as Exempt Wholesale Generators became effective by operation of the Commission's regulations. 18 CFR 366.7(a) (2016).

Dated: June 14, 2017.
Nathaniel J. Davis, Sr.,
Deputy Secretary.

[FR Doc. 2017-13007 Filed 6-21-17; 8:45 am]

BILLING CODE 6717-01-P